DEPARTMENT OF THE INTERIOR

Bureau of Land Management

[MT010-1220-FU]

Notice of Intent To Collect Fees on Public Land in Yellowstone County, Montana Under the Federal Lands Recreation Enhancement Act

AGENCY: Bureau of Land Management, Interior.

ACTION: Notice of intent.

SUMMARY: The Bureau of Land Management (BLM)'s Billings Field Office is proposing to begin collecting fees in 2007 at the Shepherd Ah Nei OHV Area in Yellowstone County, Montana, located in Township 3 N, Range 27 E, Section 1 and Township 3 N, Range 28 E, Section 6.

Under Section 2 (13) of the Federal Lands Recreation Enhancement Act (REA), L. 108-447, the Shepherd Ah Nei OHV Area qualifies as a site wherein visitors can be charged a “Special Recreation Permit Fee” authorized under section 3(h).

In accordance with REA, and implementing regulations at 43 CFR Part 2930, visitors participating in OHV use (e.g. ATVs, motorcycles, quads), could purchase a Special Recreation Permit (SRP) to operate their vehicle within the riding area.

Each OHV operating within the recreation area would be required to purchase and display the permit. Permits would expire on December 31 of the issue year, regardless of when the permit was purchased. Opportunity to purchase an individual SRP pass for the day would be available onsite to facilitate less frequent users. BLM provides individual special recreation permits for management of special areas as defined in 43 CFR Part 2932.11. 1-2., and in REA under section 3(h). The America The Beautiful—The National Parks and Federal Recreational Lands Pass, including the Annual, Senior, Access, and Volunteer passes would not be honored and do not apply to the SRP fee. The National Park Passports, Golden Eagle, Golden Age, and Golden Access Passports would also not be honored and do not apply to the SRP fee.

DATES: The public is encouraged to participate in the public comment period that will expire 30 days after the publication of this notice. Effective six months after the publication of this notice, the Bureau of Land Management Billings Field Office will initiate fee collection in the Shepherd Ah Nei OHV Area, unless BLM publishes a Federal Register notice to the contrary. The Eastern Montana Resource Advisory Council (RAC) will review consideration for the new fee at least three months prior to the proposed initiation date. Fees will be established by separate supplemental rules pursuant to 43 CFR 8365.1-6. Future adjustments in the fee amount will be made in accordance with the BLM Shepherd Ah Nei Business Plan, and after consultation with the Eastern Montana Resource Advisory Council and other public notice.

ADDRESSES: Mail: Field Manager, Bureau of Land Management, Billings Field Office, 5001 Southgate Drive, Billings, Montana 59101.

FOR FURTHER INFORMATION CONTACT: James M. Sparks, Acting Field Manager, Billings Field Office, 5001 Southgate Drive, Billings, Montana 59101.

SUPPLEMENTARY INFORMATION: The Shepherd Ah Nei OHV Area is a popular OHV recreation area offering significant opportunities for outdoor recreation and has received substantial Federal investment. The BLM's commitment is to find the proper balance between public use and resource protection. It is the BLM's policy to collect fees at all specialized recreation sites, or where the BLM provides facilities, equipment or services, at federal expense, in connection with outdoor use. In an effort to meet increasing demands for services and maintenance of existing facilities, routes and trails, the BLM would implement a fee program for the Shepherd Ah Nei OHV Area. BLM's mission for the Shepherd Ah Nei OHV Fee Collection Project (Project) is to ensure that funding is available to maintain existing facilities and recreational opportunities, to provide for law enforcement presence, to develop additional services, and to protect resources. This mission entails communication with those who will be most directly affected, for example, recreationists, other recreation providers, neighbors, as well as those who will have a stake in solving concerns that may arise throughout the life of the Project, including elected officials, and other agencies.

In January 1999, the BLM and the U.S. Forest Service (FS) initiated the Off-Highway Vehicle Environmental Impact Statement and Proposed Plan Amendment for Montana, North Dakota, and South Dakota (OHV EIS). This EIS considered various ways to minimize the potential for resource damage from cross-country OHV use. The BLM signed a record of decision (ROD) for this EIS and Plan Amendment in June 2003. In December 2004, the REA was signed into law. The REA provides authority for 10 years for the Secretaries of the Interior and Agriculture to establish, modify, charge, and collect recreation fees for use of some Federal recreation lands and waters, and contains specific provisions addressing public involvement in the establishment of recreation fees, including a requirement that Recreation Resource Advisory Committees or Councils have the opportunity to make recommendations regarding establishment of such fees. The REA also directs the Secretaries of the Interior and Agriculture to publish advance notice in the Federal Register whenever new recreation fee areas are established under their respective jurisdictions.

In May 2005, the BLM issued the Decision for the Shepherd AH Nei OHV Travel Management Plan, which established roads, trails and areas as open, closed, or limited with respect to vehicular use in the Shepherd Ah Nei OHV Area. This 2005 decision allows for recreation opportunities, issuing of use permits, and charging of fees for use of the Shepherd Ah Nei OHV Area. The establishment of a permit process, and the collection of user fees were also addressed in the Shepherd Ah Nei OHV Business Plan, prepared pursuant to the REA and BLM recreation fee program policy. This Business Plan, in conjunction with the Travel Management Plan, establishes the rationale for charging recreation fees. In accordance with BLM recreation fee program policy, the Business Plan explains the fee collection process, and outlines how the fees will be used at the Shepherd Ah Nei OHV Area. The BLM has notified and involved the public at each stage of the planning process, including the proposal to collect fees. Fee amounts will be posted on-site and at the Billings Field Office; copies of the Business Plan will be available at the Billings Field Office and the BLM Montana State Office, 5001 Southgate Drive, Billings, Montana 59101.

The BLM welcomes public comments on this proposal. Before including your address, phone number, e-mail address, or other personal identifying information in your comment, be advised that your entire comment—including your personal identifying information—may be made publicly available at any time. While you can ask us in your comment to withhold from public review your personal identifying information, we cannot guarantee that we will be able to do so.

Authority: 16 U.S.C. 6803(b); 43 CFR 2932.13.

James M. Sparks,
Acting Field Manager, Billings Field Office.

[FR Doc. E7-13995 Filed 7-18-07; 8:45 am]

BILLING CODE 4310-$$-P